NUCLEAR REGULATORY COMMISSION

[NRC-2010-0029; Docket No. 50-397]

Energy Northwest, Columbia Generating Station; Final Supplement 47 to the Generic Environmental Impact Statement for License Renewal of Nuclear Plants

AGENCY: Nuclear Regulatory Commission.

ACTION: Final Supplement 47 to the Generic Environmental Impact Statement for License Renewal of Nuclear Plants; issuance.

SUMMARY: Notice is hereby given that the U.S. Nuclear Regulatory Commission (NRC or the Commission) has published the final plant-specific supplement 47 to the “Generic Environmental Impact Statement for License Renewal of Nuclear Plants (GEIS),” NUREG-1437, regarding the renewal of operating license NPF-21 for an additional 20 years of operation for the Columbia Generating Station (CGS). The CGS site is located approximately 12 miles north of Richland, WA. Possible alternatives to the proposed action (license renewal) include no action and reasonable alternative energy sources.

ADDRESSES: Please refer to Docket ID NRC-2010-0029 when contacting the NRC about the availability of information regarding this document. You may access information related to this document using the following methods:

• Federal Rulemaking Web site: Go to http://www.regulations.gov and search for Docket ID NRC-2010-0029. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Additional information regarding accessing materials related to this action is under the Document Availability heading in the SUPPLEMENTARY INFORMATION section of this document.

• NRC's PDR: You may examine and purchase copies of public documents at the NRC's PDR, Room O1-F21, One White Flint North, 11555 Rockville Pike, Rockville, Maryland 20852.

FOR FURTHER INFORMATION CONTACT: For information about the Final SEIS or the environmental review process, please contact Paula Cooper, telephone: 301-415-2323; email: Paula.Cooper@nrc.gov. Projects Branch 2, Division of License Renewal, Office of Nuclear Reactor Regulation, U.S. Nuclear Regulatory Commission, Washington, DC 20555-0001.

SUPPLEMENTARY INFORMATION:

Discussion

The NRC received an application, dated January 19, 2010, from Energy Northwest (EN), filed pursuant to Section 103 of the Atomic Energy Act of 1954, as amended, and Title 10 of the Code of Federal Regulations Part 54 (10 CFR part 54), to renew the operating license for CGS. Renewal of the license would authorize the applicant to operate the facility for an additional 20-year period beyond the period specified in the current operating license. The current operating license for CGS (NPF-21), expires on December 20, 2023.

The final Supplemental Environmental Impact Statement (SEIS) is being issued as part of the NRC's process to decide whether to issue a renewed license to CGS, pursuant to 10 CFR part 54. The final SEIS was prepared in compliance with the National Environmental Policy Act of 1969, as amended (NEPA), and the NRC's regulations for implementing NEPA in 10 CFR part 51. In the final SEIS, the NRC staff assessed the potential environmental impacts from the operation, refurbishment, and decommissioning of the proposed CGS project. The NRC staff assessed the impacts of the proposed action on land use, historic and cultural resources, air quality, geology and soils, water resources, ecological resources, transportation, public and occupational health, waste management, socioeconomics, and environmental justice. In preparing this final SEIS, the NRC staff also reviewed, considered, evaluated, and addressed the public comments received during the scoping process and on the draft SEIS.

In addition to the proposed action, the NRC staff considered a reasonable range of alternatives, including the no-action alternative. Under the no-action alternative, the NRC would deny EN's request for a renewed operating license for the CGS site. The no-action alternative serves as a baseline for comparison of the potential environmental impacts of the proposed action. Other alternatives the NRC staff considered include: (1) Natural gas-fired combined cycle (NGCC); (2) new nuclear; (3) combination alternative (NGCC, hydroelectric, wind, and conservation and efficiency); (4) Offsite new nuclear and NGCC; (5) coal-fired power; (6) energy conservation and energy efficiency; (7) purchased power; (8) solar power; (9) wind power; (10) biomass waste; (11) hydroelectric power; (12) ocean wave and current energy; (13) geothermal power; (14) municipal solid waste; (15) biofuels; (16) oil-fired power; (17) fuel cells; and (18) delayed retirement. These alternatives, except for the NGCC, new nuclear, and combination alternative, were eliminated from further analysis because they do not meet future system needs and do not have costs or benefits that justify inclusion in the range of reasonable alternatives.

As discussed in Section 9.4 of the final supplement, the staff determined that the adverse environmental impacts of license renewal for CGS are not great enough to deny the option of license renewal for energy planning decision-makers. This recommendation is based on: (1) The analysis and findings in the GEIS; (2) information provided in the environmental report and other documents submitted by EN; (3) consultation with Federal, State, local, and tribal government agencies; (4) the staff's own independent environmental review; and (5) consideration of public comments received during the scoping process and on the draft Supplemental Environmental Impact Statement.

Document Availability

Documents related to this notice are available on the NRC's plant application for license renewal Web site at http://www.nrc.gov/reactors/operating/licensing/renewal/applications/columbia.html. The final SEIS for the proposed CGS project may also be accessed on the Internet at http://www.nrc.gov/reading-rm/doc-collections/nuregs/staff/sr1437/ by selecting “Supplement-47.”

The CGS's license application, the CGS's Environmental Report, and Volumes 1 and 2 of the NRC's final SEIS are available in ADAMS under Accession Numbers ML100250668, ML100250666, ML12096A334, and ML12096A336, respectively.

A copy of the final SEIS will be available at the Richland Public Library, 955 Northgate Drive, Richland, Washington 99352, and at the Kennewick Branch of Mid-Columbia Libraries, 1620 South Union Street, Kennewick, Washington 99338.

Dated at Rockville, Maryland, this 6th day of April, 2012.
For the Nuclear Regulatory Commission.
Dennis Morey,
Chief, Reactor Projects Branch 1, Division of License Renewal, Office of Nuclear Reactor Regulation.

[FR Doc. 2012-8809 Filed 4-12-12; 8:45 am]

BILLING CODE 7590-01-P